DEPARTMENT OF THE INTERIOR

Bureau of Land Management

[ID-070-1020-PG]

Upper Snake River District Resource Advisory Council; Meeting

AGENCY: Bureau of Land Management, Interior.

ACTION: Upper Snake River District Resource Advisory Council Meeting: Locations and times.

SUMMARY: In accordance with the Federal Land Policy and Management Act and the Federal Advisory Committee Act of 1972 (FACA), 5 U.S.C., the Department of the Interior, Bureau of Land Management (BLM) meeting of the Upper Snake River District Resource Advisory Council (RAC) will be held as indicated below. The agenda for this two-day meeting will largely cover planning issues in the Upper Snake River District, principally the Pocatello Resource Management Plan and the Craters of the Moon National Monument Plan. The agenda may change as issues warrant between publication of this notice and the meeting.

All meetings are open to the public. The public may present written or oral comments to the council. Each formal council meeting will have a time allocated for hearing public comments. Individuals who plan to attend and need further information about the meetings, or need special assistance such as sign language interpretation or other reasonable accommodations should contact David Howell at the Upper Snake River District Office, 1405 Hollipark Dr., Idaho Falls, ID 83401, or telephone (208) 524-7559.

DATES AND TIMES: The meeting will be held November 28-29, 2001 at the BLM office, 1405 Hollipark Drive, in Idaho Falls. An executive session of the RAC will begin at 1 p.m., and the full RAC meeting will begin at 2 p.m. The meeting will conclude no later than 3 p.m. the following day. Public comments, if any, will be scheduled from 8:30 a.m. to 9 a.m. on November 29.

SUPPLEMENTARY INFORMATION: The purpose of the Resource Advisory Council is to advise the Secretary of the Interior, through the BLM, on a variety of planning and management issues associated with the management of the of the public lands.

FOR FURTHER INFORMATION CONTACT: David Howell, Upper Snake River District, 1405 Hollipark Dr., Idaho Falls, ID 83401, (208) 524-7559.

Dated: October 4, 2001.
Joe Kraayenbrink,
Idaho Falls Field Manager.

[FR Doc. 01-27912 Filed 11-6-01; 8:45 am]

BILLING CODE 4310-66-P